FEDERAL COMMUNICATIONS COMMISSION

47 CFR Part 73

[DA 06-1052; MB Docket No. 05-145, RM-11212]

Radio Broadcasting Services; Hermitage and Mercer, PA

AGENCY: Federal Communications Commission.

ACTION: Proposed rule, dismissal.

SUMMARY: This document dismisses a pending petition for rule making, as requested by Petitioner Cumulus Licensing LLC, licensee of Station WWIZ(FM), Mercer, Pennsylvania, which proposed to reallot Channel 280A from Mercer to Hermitage, Pennsylvania, and modify the license of WWIZ accordingly. The document therefore terminates the proceeding.

ADDRESSES: Federal Communications Commission, Washington, DC 20554.

FOR FURTHER INFORMATION CONTACT: Helen McLean, Media Bureau (202) 418-2738.

SUPPLEMENTARY INFORMATION: This is a synopsis of the Commission's Report and Order, MB Docket No. 05-145, adopted May 17, 2006, and released May 19, 2006. The full text of this Commission decision is available for inspection and copying during normal business hours in the FCC Reference Information Center (Room CY-A257), 445 12th Street, SW., Washington, DC This document may also be purchased from the Commission's duplicating contractors, Best Copy and Printing, Inc., 445 12th Street, SW, Room CY-B402, Washington, DC 20554, telephone 1-800-378-3160 or http://www.BCPIWEB.com.

This document is not subject to the Congressional Review Act. (The Commission, is, therefore, not required to submit a copy of this Report and Order to Government Accountability Office, pursuant to the Congressional Review Act, see 5 U.S.C. Section 801(a)(1)(A) since this proposed rule is dismissed, herein.)

Federal Communications Commission.
John A. Karousos,
Assistant Chief, Audio Division, Media Bureau.

[FR Doc. E6-8732 Filed 6-6-06; 8:45 am]

BILLING CODE 6712-01-P